DEPARTMENT OF THE TREASURY

Public Meeting of the President's Advisory Panel on Federal Tax Reform

AGENCY: Department of the Treasury.

ACTION: Notice of meeting.

SUMMARY: This notice advises all interested persons of the location of the September 8, 2005, public meeting of the President's Advisory Panel on Federal Tax Reform. This meeting was previously announced in 70 FR 49704 (August 24, 2005).

DATES: The meeting will be held on Thursday, September 8, 2005, in Washington, DC, and will begin at 9 a.m.

ADDRESSES: The meeting will be held at the Wardman Park Marriott Hotel, 2660 Woodley Road, NW., Washington, DC 20008.

FOR FURTHER INFORMATION CONTACT: The Panel staff at (202) 927-2TAX (927-2829) (not a toll-free call) or e-mail info@taxreformpanel.gov (please do not send comments to this box). Additional information is available at http://www.taxreformpanel.gov.

Dated: August 25, 2005.
Mark S. Kaizen,
Designated Federal Officer.

[FR Doc. 05-17302 Filed 8-29-05; 8:45 am]

BILLING CODE 4811-33-U